DEPARTMENT OF HOUSING AND URBAN DEVELOPMENT

[Docket No. FR-5285-N-31]

Notice of Submission of Proposed Information Collection to OMB; Emergency Comment Request; the Green Retrofit Program of the American Recovery and Revitalization Act of 2009

AGENCY: Office of Affordable Housing Preservation of the Office of Housing, Department of Housing and Urban Development.

ACTION: Notice of proposed information collection.

SUMMARY: The proposed information collection requirement described below has been submitted to the Office of Management and Budget (OMB) for emergency review and approval, as required by the Paperwork Reduction Act. The Department is soliciting public comments on the subject proposal.

DATES: Comments Due Date: October 15, 2009.

ADDRESSES: Interested persons are invited to submit comments regarding this proposal. Comments must be received within fourteen (14) days from the date of this Notice. Comments should refer to the proposal by name/or OMB approval number) and should be sent to: Ross A. Rutledge, HUD Desk Officer, Office of Management and Budget, New Executive Office Building, Washington, DC 20503; e-mail: Ross_A._Rutledge@omb.eop.gov; fax: 202-395-6974.

FOR FURTHER INFORMATION CONTACT: Lillian L. Deitzer, Reports Management Officer, QDAM, Department of Housing and Urban Development, 451 Seventh Street, SW., Washington, DC 20410; e-mail Lillian_L_Deitzer@HUD.gov; telephone (202) 708-2374. This is not a toll-free number. Copies of available documents submitted to OMB may be obtained from Ms. Deitzer.

SUPPLEMENTARY INFORMATION:

This Notice informs the public that the U.S. Department of Housing and Urban Development (HUD) has submitted to OMB, for emergency processing, an information collection package with respect to the Green Retrofit Program authorized by the American Recovery and Revitalization Act of 2009. The legislation includes authority for HUD to make loans, make grants, and take a variety of other actions to facilitate utility-saving investments and other investments that produce environmental benefits, in certain existing HUD-assisted multifamily housing, subject to agreement between HUD and the Owner. The Green Retrofit Program is detailed in HUD Notice H 09-02 issued on May 13, 2009.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: The Green Retrofit Program of the American Recovery and Revitalization Act of 2009.

Description of Information Collection: Information will be collected to ensure compliance with program mandates, Recovery Act reporting requirements, Davis-Bacon wage reporting requirements, and to measure the effectiveness of Green retrofits.

OMB Control Number: 2502-NEW.

Agency Form Numbers: None.

Members of Affected Public: Profit-motivated and not-for-profit owners of multifamily housing projects which have been approved for a grant or loan under the Green Retrofit Program. Eligible grant or loan recipients include projects receiving rental assistance pursuant to:

• Section 202 of the Housing Act of 1959 (12 U.S.C. 17012),

• Section 811 of the Cranston-Gonzales National Affordable Housing Act (42 U.S.C. 8013); or

• Section 8 of the United States Housing Act of 1937 as amended (42 U.S.C. 1437f).

Estimation of the total numbers of hours needed to prepare the information collection including number of respondents, frequency of responses, and hours of response: An estimation of the total number of hours needed to prepare the information collection is 9,800, number of respondents is 200, the frequency of response is occasionally and the hours per response is approximately 3 hours.

Authority: The Paperwork Reduction Act of 1995, 44 U.S.C. Chapter 35, as amended.

Dated: September 24, 2009.
Lillian L. Deitzer,
Departmental Reports Management Officer, Office of the Chief Information Officer.

[FR Doc. E9-23636 Filed 9-30-09; 8:45 am]

BILLING CODE 4210-72-P